DEPARTMENT OF HEALTH AND HUMAN SERVICES

Centers for Medicare & Medicaid Services

[CMS-1649-N]

Medicare Program; Announcement of the Advisory Panel on Hospital Outpatient Payment (HOP Panel) Meeting on March 14-15, 2016

AGENCY: Centers for Medicare & Medicaid Services (CMS), Department of Health and Human Services (HHS).

ACTION: Notice.

SUMMARY: This notice announces a meeting of the Advisory Panel on Hospital Outpatient Payment (the Panel) for March 14-15, 2016. The purpose of the Panel is to advise the Secretary of the Department of Health and Human Services (DHHS) (the Secretary) and the Administrator of the Centers for Medicare & Medicaid Services (CMS) (the Administrator) on the clinical integrity of the Ambulatory Payment Classification (APC) groups and their associated weights and hospital outpatient therapeutic services supervision issues.

DATES: Meeting Dates: The first semi-annual meeting in 2016 is scheduled for the following dates and times. The times listed in this notice are Eastern Daylight Time (EDT) and are approximate times; consequently, the meetings may last longer or shorter than the times listed in this notice, but will not begin before the posted times:

• Monday, March 14, 2016, 9 a.m. to 5 p.m. EDT

• Tuesday, March 15, 2016, 9 a.m. to 5 p.m. EDT

Meeting Information Updates:

The actual meeting hours and days will be posted in the agenda. The Panel meeting will be conducted only via teleconference and webcast. The teleconference agenda, dial-in instructions, and related webcast and webinar details will be posted on the CMS Web site approximately 1 week prior to the meeting at: http://cms.hhs.gov/Regulations-and-Guidance/Guidance/FACA/AdvisoryPanelonAmbulatoryPaymentClassificationGroups.html.

We note that this is a teleconference-only meeting. There will not be an in-person meeting location for this public Panel meeting.

Deadlines:

Deadline for Presentations and Comments:

Presentations and comments may be submitted by email to the Designated Federal Official's (DFO's) email inbox (APCPanel@cms.hhs.gov). If necessary, presentations and comments can instead be mailed to the Designated Federal Official at the address provided below. Presentations or comments and form CMS-20017, (located at http://www.cms.hhs.gov/cmsforms/downloads/cms20017.pdf) must be received by 5 p.m. EDT, Friday, January 29, 2016. Presentations and comments that are not received by the due date will be considered late and will not be included on the agenda. In commenting, please refer to file code CMS-1638-N. For this teleconference, we are aiming to have all presentations and comments available on the CMS Web site. Materials on the CMS Web site must be 508 compliant to ensure access to federal employees and members of the public with and without disabilities. We therefore encourage presenters and commenters to refer to guidance on making documents Section 508 compliant as they draft their submissions, and, whenever possible, to submit their presentations and comments in a 508 compliant form. Such guidance is available at http://www.cms.gov/Research-Statistics-Data-and-Systems/CMS-Information-Technology/Section508/508-Compliant-doc.html. CMS will review presentations and comments for 508 compliance, and place compliant materials on its Web site. As resources permit, CMS will also convert non-compliant submissions to 508 compliant forms, and offer assistance to submitters who wish to make their submissions 508 compliant. All non-compliant materials will be available to the public upon request. Those wishing to access such materials should contact the Designated Federal Official and her address, email and phone number are provided below.

Meeting Registration Timeframe:

Registration is not required to participate in this teleconference public meeting. Interested participants will be able to access the teleconference, webcast, and webinar by following the instructions on the above referenced CMS Web site.

Meeting Webinar, Webcast, and Teleconference:

The public may participate in this meeting via webinar, webcast or by teleconference. During the scheduled meeting, webcasting is accessible online at: http://cms.gov/live. Webinar and teleconference dial-in information will appear on the final meeting agenda, which will be posted on the CMS Web site about 1 week prior to the meeting at: http://www.cms.gov/Regulations-and-Guidance/Guidance/FACA/AdvisoryPanelonAmbulatoryPaymentClassificationGroups.html.

FOR FURTHER INFORMATION CONTACT: Designated Federal Official (DFO):

Carol Schwartz, DFO, 7500 Security Boulevard, Mail Stop: C4-04-25, Woodlawn, MD 21244-1850. Phone: (410) 786-3985. Email: APCPanel@cms.hhs.gov.

Send email copies to the following address: Email: APCPanel@cms.hhs.gov.

News Media:

Representatives must contact our Public Affairs Office at (202) 690-6145.

Advisory Committees' Information Lines:

The phone number for the CMS Federal Advisory Committee Hotline is (410) 786-3985.

Web sites:

For additional information on the Panel and updates to the Panel's activities, we refer readers to view our Web site at: http://www.cms.gov/Regulations-and-Guidance/Guidance/FACA/AdvisoryPanelonAmbulatoryPaymentClassificationGroups.html.

Information about the Panel and its membership in the Federal Advisory Committee Act (FACA) database are also located at: http://facadatabase.gov/.

SUPPLEMENTARY INFORMATION:

I. Background

The Secretary of the Department of Health and Human Services (DHHS) (the Secretary) is required by section 1833(t)(9)(A) of the Social Security Act (the Act) and is allowed by section 222 of the Public Health Service Act (PHS Act) to consult with an expert outside panel, that is, the Advisory Panel on Hospital Outpatient Payment (the Panel) regarding the clinical integrity of the Ambulatory Payment Classification (APC) groups and relative payment weights and hospital outpatient therapeutic services supervision issues. The Panel is governed by the provisions of the Federal Advisory Committee Act (Pub. L. 92-463), as amended (5 U.S.C. Appendix 2), to set forth standards for the formation and use of advisory panels.

The Charter provides that the Panel shall meet up to 3 times annually. We consider the technical advice provided by the Panel as we prepare the proposed and final rules to update the outpatient prospective payment system (OPPS).

II. Agenda

The agenda for the March 14, 2016 through March 15, 2016, meeting will provide for discussion and comment on the following topics as designated in the Panel's Charter:

• Addressing whether procedures within an APC group are similar both clinically and in terms of resource use.

• Evaluating APC group weights.

• Reviewing the packaging of OPPS services and costs, including the methodology and the impact on APC groups and payment.

• Removing procedures from the inpatient-only list for payment under the OPPS.

• Using single and multiple procedure claims data for CMS' determination of APC group weights.

• Addressing other technical issues concerning APC group structure.

• Recommending the appropriate supervision level (general, direct, or personal) for individual hospital outpatient therapeutic services.

The Agenda will be posted on the CMS Web site at http://cms.hhs.gov/Regulations-and-Guidance/Guidance/FACA/AdvisoryPanelonAmbulatoryPaymentClassificationGroups.html approximately 1 week before the meeting.

III. Presentations

The subject matter of any presentation and/or comment matter must be within the scope of the Panel designated in the Charter. Any presentations or comments outside of the scope of this Panel will be returned or requested for amendment. Unrelated topics include, but are not limited to, the conversion factor, charge compression, revisions to the cost report, pass-through payments, correct coding, new technology applications (including supporting information/documentation), provider payment adjustments, supervision of hospital outpatient diagnostic services and the types of practitioners that are permitted to supervise hospital outpatient services. The Panel may not recommend that services be designated as nonsurgical extended duration therapeutic services.

The Panel may use data collected or developed by entities and organizations other than DHHS and CMS in conducting its review. We recommend organizations submit data for CMS staff and the Panel's review.

All presentations are limited to 5 minutes, regardless of the number of individuals or organizations represented by a single presentation. Presenters may use their 5 minutes to represent either one or more agenda items. All 508 compliant presentations and comments will be placed on the CMS Web site. For guidance on making documents Section 508 compliant, we refer readers to http://www.cms.gov/Research-Statistics-Data-and-Systems/CMS-Information-Technology/Section508/508-Compliant-doc.html. All non-508 compliant presentations and comments will be available to the public upon request. Those wishing to access such materials should contact the Designated Federal Official and her address, email and phone number are provided above in the section that provides contact information.

In order to consider presentations and/or comments, we will need to receive the following:

1. An email copy of the presentation or comments sent to the DFO mailbox, APCPanel@cms.hhs.gov or, if unable to submit by email, a hard copy sent to the Designated Federal Official at the address noted under For Further Information Contact.

2. Form CMS-20017 with complete contact information that includes name, address, phone number, and email addresses for all presenters and commenters and a contact person that can answer any questions and or provide revisions that are requested for the presentation. Presenters and commenters must clearly explain the actions that they are requesting CMS to take in the appropriate section of the form. A presenter's/commenter's relationship with the organization that they represent must also be clearly listed.

• The form is now available through the CMS Forms Web site. The Uniform Resource Locator (URL) for linking to this form is as follows: http://www.cms.hhs.gov/cmsforms/downloads/cms20017.pdf.

• We encourage presenters to make efforts to ensure that their presentations and comments are 508 compliant.

IV. Oral Comments

In addition to formal oral presentations, which are limited to 5 minutes total per presentation, there will be an opportunity during the meeting for public oral comments, which will be limited to 1 minute for each individual and a total of 3 minutes per organization.

V. Meeting Participation

This is a teleconference-only meeting. The Panel meeting format is teleconference, webcast, and webinar. There will not be an in-person meeting location for this public Panel meeting. In addition, no meeting registration is required to access the meeting.

VIII. Panel Recommendations and Discussions

The Panel's recommendations at any Panel meeting generally are not final until they have been reviewed and approved by the Panel on the last day of the meeting, before the final adjournment. These recommendations will be posted to our Web site after the meeting.

IX. Collection of Information Requirements

This document does not impose information collection requirements, that is, reporting, recordkeeping or third-party disclosure requirements. Consequently, there is no need for review by the Office of Management and Budget under the authority of the Paperwork Reduction Act of 1995 (44 U.S.C. 3501 et seq.).

Dated: November 12, 2015.
Andrew M. Slavitt,
Acting Administrator, Centers for Medicare & Medicaid Services.

[FR Doc. 2015-30315 Filed 11-27-15; 8:45 am]

BILLING CODE 4120-01-P